DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 66 FR 56562-63, dated November 8, 2001) is amended to establish the organizational structure within the National Center on Birth Defects and Developmental Disabilities, Centers for Disease Control and Prevention.

Section C-B, Organization and Functions, is hereby amended as follows:

After the mission statement for the National Center on Birth Defects and Developmental Disabilities (CF), insert the following:

Office of the Director (CF1). (1) Directs, manages, and coordinates the activities of the National Center on Birth Defects and Developmental Disabilities (NCBDDD); (2) develops goals and objectives; provides leadership, policy formulation, scientific oversight, and guidance in program planning and development; (3) coordinates NCBDDD program activities with other CDC components, Federal agencies, international organizations, State and local health agencies, business and industry, voluntary organizations, and community-based organizations; (4) coordinates technical assistance to states, other nations and international organizations; (5) coordinates with medical, scientific, and other professional organizations interested in birth defects prevention, pediatric genetics, developmental disabilities prevention, and disabilities and health; (6) advises the Director, CDC, on policy matters concerning NCBDDD activities.

Resource Management Office (CF12). (1) Plans, coordinates, and provides administrative and management advice and guidance for NCBDDD; (2) provides and coordinates Center-wide administrative, management, and support services in the areas of fiscal management, personnel, travel, procurement, facility management, and other administrative services; (3) prepares annual budget plans and budget justifications; (4) coordinates NCBDDD requirements relating to contracts, grants, cooperative agreements, and reimbursable agreements; (5) develops and implements administrative policies, procedures, and operations, as appropriate, for NCBDDD, and prepares special reports and studies, as required, in the administrative management areas; (6) maintains liaison with related staff offices and other officials of CDC.

Division of Birth Defects and Developmental Disabilities (CF2). (1) Conducts research to determine the causes and prevention of birth defects and developmental disabilities; (2) maintains and expands support for state-based surveillance; (3) evaluates the effectiveness of efforts to prevent birth defects and developmental disabilities; (4) conducts and disseminates findings of epidemiologic research, investigations, demonstrations, and programs directed toward the prevention of selected adverse reproductive outcomes that are environmentally related; (5) provides assistance to State and local health departments on community exposures to terotogenic, mutagenic, embryotoxic, other environmental agents, and genetic influences adversely interfering with normal growth and development; (6) conducts research and develops programs to identify women at high risk of an alcohol-exposed pregnancy and to fund epidemiologic and clinical research studies aimed at early identification and intervention of children affected by prenatal alcohol exposure; (7) works closely with international organizations and entities in developing strategies and programs for reducing the number of birth defects and developmental disabilities; (8) develops and evaluates prevention strategies and provides training, technical consultation, and assistance to States and localities in developing their capacity for planning, establishing, and maintaining surveillance and prevention programs; (9) maintains and oversees funding and technical assistance to state-based institutions (e.g., the Centers for Birth Defects Research and Prevention that seek causes and promotes prevention of birth defects; (10) plans, develops, establishes, and maintains systems of surveillance including registries for monitoring, evaluating and disseminating information; (11) assists in increasing the capacity of States to prevent and control birth defects and developmental disabilities through training, technology transfer, grants, cooperative agreements, contracts, and other means; (12) provides information and education to the public; (13) provides services, consultation, technical assistance, and information to States, localities, other Federal agencies, international organizations, and other public and private organizations; (14) provides training in the epidemiology to professionals throughout the U.S. and abroad; and (15) collaborates and coordinates activities with other CIOs and HHS agencies.

Division of Human Development and Disability (CF3). (1) Conducts, analyzes, and disseminates disability surveillance data to identify: the distribution of disabilities in state populations; health conditions that occur with greater frequency among people with disabilities relative to those without disability; and risk and protective behaviors compared to people without disabilities; (2) assists States and localities with the development, monitoring and evaluation of blood spot screening and early hearing detection and intervention (EHDI) tracking and surveillance systems; (3) plans, establishes, and maintains systems of surveillance, including registries, for monitoring, evaluating, and disseminating information on disability and related conditions and detrimental child outcomes; (4) oversees and manages grants, cooperative agreements, contracts, and other funding instruments related to Division programs; (5) assists States and localities in developing their capacity for serving individuals with disabilities and secondary conditions (e.g., developing prevention strategies, providing training and technical consultation); (6) collaborates with universities, Federal, national, and State organizations to identify and address knowledge and research gaps in disability, hearing and vision loss, child development, and blood spot screening; (7) collaborates with universities and other organizations to investigate environmental, social, and technological supports to promote social participation and human development; (8) conducts applied research on public health aspects of normal and abnormal child development (e.g., early childhood, behavior problems in children); (9) conducts research on etiology of hearing loss and associated disabilities, cost and effectiveness of EHDI programs, family issues related to the EHDI programs and long-term benefits of early identification and intervention; (10) conducts research on interventions to prevent adverse child developmental outcomes; (11) conducts and disseminates research findings about people with disabilities, with special emphasis on women, children, and older persons; (12) develops and disseminates information on public health aspects of normal and abnormal child development (e.g., early childhood, hearing loss, behavior problems in children); (13) provides information and education to the public on disabilities; and (14) develops programs that seek to identify health risks, protective factors and measure the effectiveness of health promotion activities for prevention of conditions related to disability.

Dated: March 15, 2002.
Jeffrey P. Koplan,
Director.

[FR Doc. 02-7157 Filed 3-25-02; 8:45 am]

BILLING CODE 4160-18-M